DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of a meeting of the Marine Protected Areas Federal Advisory Committee (Committee) in Santa Barbara, California.

DATES: The meeting will be held Tuesday, November 2, 2010, from 8:30 a.m. to 5:30 p.m., and Wednesday, November 3, from 8:30 a.m. to 5 p.m. These times and the agenda topics described below are subject to change. Refer to the Web page listed below for the most up-to-date meeting agenda.

ADDRESSES: The meeting will be held at Fess Parker's Doubletree Resort, 633 East Cabrillo Blvd., Santa Barbara, California.

FOR FURTHER INFORMATION CONTACT: Kara Schwenke, Designated Federal Officer, MPA FAC, National Marine Protected Areas Center, 1305 East West Highway, Silver Spring, Maryland 20910. (Phone: 301-713-3100 x162, Fax: 301-713-3110); e-mail: kara.schwenke@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158, which calls for the development of a National System of MPAs. The National System aims to strengthen existing MPAs and MPA programs through national and regional coordination, capacity building, science and analysis. The meeting will be open to public participation from 4:30 p.m. to 5:30 p.m. on Tuesday, November 2, 2010. In general, each individual or group will be limited to a total time of five (5) minutes. If members of the public wish to submit written statements, they should be submitted to the Designated Federal Official by October 28, 2010.

Matters to be Considered: The focus of the Committee's meeting will be the development of draft recommendations by the Subcommittees (Coastal and Marine Spatial Planning and Communities and Land/Sea Interactions) and the Cultural Heritage Workgroup for deliberation and action by the full MPA FAC. The Committee will hear from an expert speaker on the Integrated Ocean Observing System (IOOS), and how MPAs could be used as platforms for ocean monitoring. The Committee will hear from two panels of MPA experts: One on how MPAs can help support healthy and resilient coastal communities coastal communities, and one on how MPAs and the national system of MPAs relate to the National Ocean Policy and Coastal and Marine Spatial Planning Initiatives. The agenda is subject to change. The latest version will be posted at http://www.mpa.gov.

Dated: October 6, 2010.
Donna Wieting,
Director, Office of Ocean and Coastal Resource Management.

[FR Doc. 2010-26002 Filed 10-14-10; 8:45 am]

BILLING CODE M